NATIONAL CREDIT UNION ADMINISTRATION

Sunshine Act; Notice of Meeting

Time and Date: 10 a.m., Thursday, July 31, 2003.

Place: Board Room, 7th Floor, Room 7047, 1775 Duke Street, Alexandria, VA 22314-3428.

Status: Open.

Matters to be considered: 1. Quarterly Insurance Fund Report.

2. Reprogramming of NCUA's Operating Budget for 2003.

3. Final Rule: Section 701.21(c)(7)(ii)(C) of NCUA's Rules and Regulations, Interest Rate Ceiling.

Recess: 11:15 a.m.

Time and Date: 11:30 a.m., Thursday, July 31, 2003.

Place: Board Room, 7th Floor, Room 7047, 1775 Duke Street, Alexandria, VA 22314-3428.

Status: Closed.

Matters to be considered: 1. One (1) Creditor Claim Appeal. Closed pursuant to Exemptions (6) and (8).

FOR FURTHER INFORMATION CONTACT: Becky Baker, Secretary of the Board, Telephone: 703-518-6304.

Becky Baker,
Secretary of the Board

[FR Doc. 03-19305 Filed 7-24-03; 5:14 pm]

BILLING CODE 7535-01-M